DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for domestic and foreign licensing by the Department of the Navy.

The following patents are available for licensing:

U.S. Patent No. 6,759,661: MINIATURE HIGH INTENSITY LED ILLUMINATION SOURCE.//U.S. Patent No. 6,766,992: MOUNTING BRACKET FOR ATTACHMENT TO FLAT OR CYLINDRICAL SURFACES. Patent No. 6,767,261: THREE-DIMENSIONAL VORTEX WAKE CANCELLING JET PROPULSION METHOD.//U.S. Patent No. 6,772,704: METHOD FOR QUANTIFYING DESIGN PARAMETERS FOR A SHIP ROLL STIMULATION SYSTEM.//U.S. Patent No. 6,779,475: LAUNCH AND RECOVERY SYSTEM FOR UNMANNED UNDERWATER VEHICLES.//U.S. Patent No. 6,779,569: LIQUID FILLING CONTROL METHOD FOR MULTIPLE TANKS.//U.S. Patent No. 6,781,380: ACTIVE MAGNETIC ANOMALY SENSING ARRAY AND PROCESSING SYSTEM.//U.S. Patent No. 6,796,307: MULTIPLE PERSON HIGH ALTITUDE RECYCLING BREATHING APPARATUS.//U.S. Patent No. 6,802,236: SYSTEM FOR IN-STRIDE IDENTIFICATION OF MINELIKE CONTACTS FOR SURFACE COUNTERMEASURES.//U.S. Patent No. 6,802,237: SYSTEM AND METHOD FOR NEUTRALIZATION OF MINES USING ROBOTICS AND PENETRATING RODS.//U.S. Patent No. 6,802,260: SAFETY AND ARMING DEVICE USING CELLULOSE-BASED SENSOR/ACTUATOR.//U.S. Patent No. 6,802,370: PERSONAL COOLING SYSTEM FOR SHIPBOARD FIREFIGHTERS.//U.S. Patent No. 6,811,112: ACTIVE FEEDBACK LEVELWINDING SYSTEM.//U.S. Patent No. 6,837,240: DISPLAY SYSTEM UPGRADE FOR A FULL FACE MASK.//U.S. Patent No. 6,841,994: MAGNETIC ANOMALY SENSING SYSTEM FOR DETECTION, LOCALIZATION AND CLASSIFICATION OF MAGNETIC OBJECTS.//U.S. Patent No. 6,850,152: NON-FLAMMABLE LAND AND SEA MARKER.//U.S. Patent No. 6,851,381: AIRBORNE MINE NEUTRALIZATION SYSTEM, NEUTRALIZER PRESSURE RELIEF VALVE.//U.S. Patent No. 6,853,875: SYSTEM FOR THE COMBINED HANDLING, DELIVERY AND/OR PROTECTION OF MULTIPLE STANDARDIZED CONTAINERS AND THEIR CONROLLABLE PAYLOADS.//U.S. Patent No. 6,854,410: UNDERWATER INVESTIGATION SYSTEM USING MULTIPLE UNMANNED VEHICLES.// U.S. Patent No. 6,854,412: UNDERWATER VACUUM ATTACHMENT DEVICE.//

ADDRESSES: Requests for copies of the patents cited should be directed to Office of Counsel, Naval Surface Warfare Center Panama City, 110 Vernon Ave, Panama City, FL 32407-7001.

FOR FURTHER INFORMATION CONTACT: Mr. James Shepherd, Patent Counsel, Naval Surface Warfare Center Panama City, 110 Vernon Ave, Panama City, FL 32407-7001, telephone 850-234-4646.

(Authority: 35 U.S.C. 207, 37 CFR Part 404.)

Dated: April 19, 2005.
I.C. Le Moyne Jr.,
Lieutenant, Judge Advocate General's Corps, U.S. Navy, Alternate Federal Register Liaison Officer.

[FR Doc. 05-8274 Filed 4-25-05; 8:45 am]

BILLING CODE 3810-FF-P